DEPARTMENT OF ENERGY

Federal Energy Regulatory Commission

[Docket No. RP95-364-014]

Williston Basin Interstate Pipeline Company; Notice of Refund Report

January 19, 2001.

Take notice that on January 12, 2001, Williston Basin Interstate Pipeline Company (Williston Basin), tendered for filing with the Commission its Refund Report made in compliance with the Settlement approved by the Commission's Order issued November 21, 2000 in the above-referenced dockets.

Williston Basin states that on December 27, 2000, refunds of amounts owed were sent by overnight delivery to Williston Basin's shippers in connection with the Settlement rates and the rates that were in effect from January 1, 1996 through May 31, 2000, with interest calculated through December 28, 2000, in accordance with Section 154.501 of the Commission's Regulations and the Commission's Order issued November 21, 2000.

Any person desiring to protest said filing should file a protest with the Federal Energy Regulatory Commission, 888 First Street, NE., Washington, DC 20426, in accordance with Section 385.211 of the Commission's Rules and Regulations. All such protests must be filed on or before January 26, 2001. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

David P. Boergers,
Secretary.

[FR Doc. 01-2297 Filed 1-24-01; 8:45 am]

BILLING CODE 6717-01-M